DEPARTMENT OF ENERGY

[Docket No. EA-264-A]

Application to Export Electric Energy; ENMAX Energy Marketing, Inc.

AGENCY: Office of Fossil Energy, DOE.

ACTION: Notice of application.

SUMMARY: ENMAX Energy Marketing Inc. (ENMAX) has applied to renew its authority to transmit electric energy from the United States to Canada pursuant to section 202(e) of the Federal Power Act.

DATES: Comments, protests or requests to intervene must be submitted on or before May 10, 2004.

ADDRESSES: Comments, protests or requests to intervene should be addressed as follows: Office of Coal & Power Import/Export (FE-27), Office of Fossil Energy, U.S. Department of Energy, 1000 Independence Avenue, SW., Washington, DC 20585-0350 (fax 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On May 30, 2002, the Office of Fossil Energy (FE) of the Department of Energy (DOE) issued Order No. EA-264 authorizing ENMAX to transmit electric energy from the United States to Canada. That two-year authorization will expire on May 30, 2004.

On April 5, 2004, FE received an application from ENMAX to renew the authorization contained in EA-264 for a term of five (5) years. ENMAX is a Canadian corporation having its principal place of business in Calgary, Alberta, Canada. ENMAX is a wholly-owned subsidiary of ENMAX Energy Cooperation which in turn is a wholly-owned subsidiary of ENMAX Corporation. ENMAX Corporation is wholly owned by the City of Calgary and provides electricity transmission and distribution services in the City of Calgary.

ENMAX proposes to arrange for the delivery of electric energy to Canada over the existing international transmission facilities owned by Basin Electric Power Cooperative, Bonneville Power Administration, Eastern Maine Electric Cooperative, International Transmission Company, Joint Owners of the Highgate Project, Long Sault, Inc., Maine Electric Power Company, Maine Public Service Company, Minnesota Power Inc., New York Power Authority, Niagara Mohawk Power Corporation, Northern States Power, and Vermont Electric Transmission Company. In addition, ENMAX has requested it be authorized to export electric energy using international transmission facilities currently owned by Boise Cascade and NSP/Excel which have not previously been authorized for third-party exports.

The construction, operation, maintenance, and connection of each of the international transmission facilities to be utilized by ENMAX, as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's rules of practice and procedures (18 CFR 385.211, 385.214). Fifteen copies of each petition and protest should be filed with DOE on or before the date listed above.

Comments on the ENMAX application to export electric energy to Canada should be clearly marked with Docket EA-264-A. Additional copies are to be filed directly with Darin L. Lowther, Manager, Regulatory Affairs, ENMAX Energy Marketing Inc., 141-50 Avenue, SE., Calagary, AB T2G 4S7 and Jerry L. Pfeffer, Skadden, Arps, Slate, Meagher, & Flom, LLP, 1440 New York Avenue, NW., Washington, DC 20005-2111

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy home page at http://www.fe.de.gov. Upon reaching the Fossil Energy home page, select “Electricity Regulation,” and then “Pending Procedures” from the options menus.

Issued in Washington, DC, on April 19, 2004.
Anthony J. Como,
Deputy Director, Electric Power Regulation, Office of Coal & Power Import/Export, Office of Coal & Power Systems, Office of Fossil Energy.

[FR Doc. 04-9244 Filed 4-22-04; 8:45 am]

BILLING CODE 6450-01-P